DEPARTMENT OF COMMERCE

National Oceanic and Atmospheric Administration

Pacific Fishery Management Council; Public Meetings

AGENCY: National Marine Fisheries Service (NMFS), National Oceanic and Atmospheric Administration (NOAA), Commerce.

ACTION: Notice of public meetings.

SUMMARY: The Pacific Fishery Management Council (Pacific Council) will convene a Methodology Review Panel May 29-31, 2012. The meeting is open to the public.

DATES: The Methodology Review Panel will meet Tuesday, May 29 through Thursday, May 31, 2011. Business will begin the first day at 8:30 a.m., and will begin at 8 a.m. each subsequent day. Business will conclude each day at 5 p.m. or until business for the day is completed.

ADDRESSES: The meeting will be held in the Large Conference Room of the National Marine Fisheries Service's Southwest Fisheries Science Center, Torrey Pines Campus; 3333 North Torrey Pines Court, La Jolla, CA 92037-1023; telephone: (858) 546-7000.

FOR FURTHER INFORMATION CONTACT: Kerry Griffin, Staff Officer; telephone: (503) 820-2280.

SUPPLEMENTARY INFORMATION: The purpose of the Methodology Review Panel meeting is to consider the design of the West Coast Vancouver Island trawl survey, the data collected from the survey, the methods used to analyze the collected data, the utility of the data for use in stock assessment models for Pacific sardine, and the potential to use of the collected data to monitor trends at the population level.

Although non-emergency issues not contained in the meeting agenda may come before the Methodology Review Panel for discussion, those issues may not be the subject of formal action during this meeting. Methodology Review Panel action will be restricted to those issues specifically listed in this notice and any issues arising after publication of this notice that require emergency action under Section 305(c) of the Magnuson-Stevens Fishery Conservation and Management Act, provided the public has been notified of the Methodology Review Panel's intent to take final action to address the emergency.

Special Accommodations

These meetings are physically accessible to people with disabilities. Requests for sign language interpretation or other auxiliary aids should be directed to Mr. Dale Sweetnam, at (858) 546-7170, at least 5 days prior to the meeting date.

Dated: May 1, 2012.
Tracey L. Thompson,
Acting Director, Office of Sustainable Fisheries, National Marine Fisheries Service.

[FR Doc. 2012-10762 Filed 5-3-12; 8:45 am]

BILLING CODE 3510-22-P